DEPARTMENT OF ENERGY

Federal Energy Regulatory Commission

Notice of Application for Surrender of License and Soliciting Comments, Motions To Intervene and Protests

June 16, 2000.

Take notice that the following hydroelectric application has been filed with the Commission and is available for public inspection:

a. Application Type: Surrender of License.

b. Project No: 11128-012.

c. Date Filed: May 9, 2000.

d. Applicant: Odell Hydroelectric Company.

e. Name of Project: Brooklyn.

f. Location: The project is located on the Upper Ammonoosuc River in Northumberland, Coos County, New Hampshire. The project does not occupy federal or tribal lands.

g. Filed Pursuant to: Federal Power Act, 16 U.S.C. 791(a)-825(r).

h. Applicant Contact: Mr. Gregory Cloutier, Odell Hydroelectric Co., C/O Powerhouse Systems, Inc., 80A Elm Street, Lancaster, NH 03584, (603) 788-9892.

i. FERC Contact: Any questions on this notice should be addressed to Dave Snyder at (202) 219-2385.

j. Deadline for filing comments and or motions: July 14, 2000.

All documents (original and eight copies) should be filed with: David P. Boergers, Secretary, Federal Energy Regulatory Commission, 888 First Street, N.E., Washington, DC 20426.

Please include the Project Number (11128-012) on any comments or motions filed.

k. Description of Filing: Odell Hydroelectric Company (Odell) applied to surrender the Brooklyn Project license. Odell states that, due to the deregulated electric utility market, it has been unable to get an electric rate that supports the economics of the project. Odell maintains that the dam and areas within the project boundary have been unchanged by licensing because no actual construction has been completed as part of the project.

l. Locations of the Application: A copy of the application is available for inspection and reproduction at the Commission's Public Reference Room, located at 888 First Street, NE., Room 2A, Washington, DC 20426, or by calling (202) 208-1371. The application may be viewed on the web at www.ferc.fed.us/online/rims.htm. Call (202) 208-2222 for assistance. A copy is also available for inspection and reproduction at the address in item h above.

m. Individuals desiring to be included on the Commission's mailing list should so indicate by writing to the Secretary of the Commission.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-15738 Filed 6-21-00; 8:45 am]

BILLING CODE 6717-01-M